DEPARTMENT OF HEALTH AND HUMAN SERVICES

National Institutes of Health

National Cancer Institute; Amended Notice of Meeting

Notice is hereby given of a change in the meeting of the President's Cancer Panel, March 5, 2008, 1 p.m. to March 5, 2008, 3 p.m., National Institutes of Health, 6116 Executive Boulevard, Rockville, MD 20852 which was published in the Federal Register on February 11, 2008, 73 FR7749.

This meeting is amended to change the meeting date from March 5, 2008 to April 29, 2008. The meeting times will be 10 a.m. to 12 p.m. The meeting is closed to the public.

Dated: March 19, 2008.
Anna Snouffer,
Acting Director, Office of Federal Advisory Committee Policy.

[FR Doc. E8-6080 Filed 3-26-08; 8:45 am]

BILLING CODE 4140-01-M